DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) issued during the period of August 2003.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following case, the investigation revealed that the criteria for eligibility have not been met for the reasons specified.

The investigation revealed that criterion (a)(2)(A)(I.C.) (Increased imports) and (a)(2)(B)(II.B.) (No shift in production to a foreign country) have not been met.

TA-W-51,958; UTI Star Guide, Arvada, CO

TA-W-52,093; Mendocino Forest Products, Fort Bragg, CA

TA-W-52,149; OEC Medical Systems, Inc., d/b/a GE OEC Medical Systems, Inc., a subsidiary of The General Electric Co., Warsaw, IN

TA-W-52,215; Cooper B-Line, Portland, OR

TA-W-51,918; Alstom T&D Industries, High Voltage Switchgear Div., Charleroi, PA

TA-W-51,995; Occidental Chemical Corp., New Owner—Elementis Chromium LP, a subsidiary of Elementis PLC, Castle Hayne, NC

TA-W-52,267; Ken-Bar Manufacturing Co., Baldwin, GA

TA-W-52,292; Manning Lighting, Sheboygan, WI

TA-W-52,297; Intermet, Radford Foundry, Radford, VA

TA-W-52,327; NIBCO, Inc., Central Tooling Services Center, Elkhart, IN

TA-W-51,800; Meridian Automotive Systems, Exterior Composites Div., Centralia, IL

TA-W-51,838; Rio Grande Forest Products, Inc., Espanola, NM

TA-W-52,128 & A, B; Control Engineering Co., Pellston, MI, Harbor Springs, MI and Boyne City, MI

TA-W-52,171; Read-Rite Corp., Fremont, CA

TA-W-52,293; Hilti North America, a Div. of Hilti Corp., Plant 5, Tulsa, OK

The workers firm does not produce an article as required for certification under section 222 of the Trade Act of 1974.

TA-W-52,003; Menlo Logistics, Inc., d/b/a Menlo Worldwide Logistics, a wholly owned subsidiary of Menlo Worldwide, LLC, Edison, NJ

TA-W-52,357; Motorola, Inc., Personal Communications Sector (PCS), Libertyville, IL

TA-W-52,255; Solectron Technology, Inc., Charlotte, NC

TA-W-52,403; Jones Equipment, Inc., Missoula, MT

TA-W-51,970; Northwest Airlines, Inc., St. Paul, MN

TA-W-52,358; JDS Uniphase, Rochester, MN

The investigation revealed that criteria (a)(2)(A)(I.A) (no employment declines) have not been met.

TA-W-52,421; State of Alaska Commercial Fisheries Entry Commission Permit #S04T64920J, Dillingham, AK

TA-W-52,326; Bojud Knitting Mills, Inc., Amsterdam, NY

The investigation revealed that criteria (a)(2)(A) (I.C) (increased imports) and (a)(2)(B) (II.C) (has shifted production to a foreign country) have not been met.

TA-W-52,052; Corning Cable Systems, Telecommunications Cable Plant (TCP), Hickory, NC

Affirmative Determinations for Worker Adjustment Assistance

The following certifications have been issued; the date following the company name and location of each determination references the impact date for all workers of such determination.

The following certifications have been issued. The requirements of (a)(2)(A) (increased imports) of section 222 have been met.

TA-W-52,117; Johnstown America Corp., Johnstown, PA: June 9, 2002.

TA-W-52,202; Lexel Company, Hutsonville, IL: June 23, 2002.

TA-W-52,274; Thomson, Inc., Circleville Glass Operations, Circleville, OH: June 27, 2002.

TA-W-52,336; Consolidated Diesel Co., Whitakers, NC: July 16, 2002.

TA-W-52,349; Terry Apparel, a/k/a Mariana Apparel, Mariana, AR: July 18, 2002.

TA-W-52,173; Carr Lowrey Glass Co., Baltimore, MD: June 27, 2002.

TA-W-52,332; Aircraft Precision Products, Inc., Ithaca, MI: July 15, 2002.

TA-W-52,252; Richmond Management, LLC, Talbott, TN: July 3, 2002.

TA-W-52,319; Akron Porcelain and Plastics Co., Inc., Akron, OH: June 20, 2002.

TA-W-52,340; RST&B Curtain and Drapery, Florence, SC: July 17, 2002.

TA-W-52,431; PFC, Inc., Athens, TN: July 29, 2002.

TA-W-52,465; Moog Aircraft, Salt Lake City, UT: July 31, 2002.

TA-W-52,276; Bureau of Engraving, Inc., Electronics Group, Minneapolis, MN: July 10, 2002.

TA-W-52,197; Specialty Mode, Inc., Jacksonville, NC.

TA-W-52,072; Colson Associates, Inc., a div. of Colson Caster Corp., Jonesboro, AR: June 16, 2002.

The following certifications have been issued. The requirements of (a)(2)(B) (shift in production) of section 222 have been met.

TA-W-52,080; MJJ Brilliant, Inc., New York, NY: June 2, 2002.

TA-W-52,187; General Electric, Industrial Systems/Motors Div., a subsidiary of General Electric Co., Jonesboro, AR: June 27, 2002.

TA-W-52,194; Cascades Diamond, Inc., including leased workers of Dunhill Staffing Systems, Thorndike, MA: June 24, 2002.

TA-W-52,275; Cordis Corp., Miami Lakes, FL: June 20, 2002.

TA-W-52,300; A.O. Smith, Water Products Co., including leased workers of Manpower, ESI and Quantum, McBee, SC: July 8, 2002.

TA-W-52,328; Photocircuits Corp., including leased workers of Express Personnel Services, Peachtree City, GA: July 16, 2002.

TA-W-52,341; Firestone Tube Co., Russellville, AR: July 16, 2002.

TA-W-52,401; Ivaco Steel Processing, Tonawanda, NY: July 24, 2002.

TA-W-52,443; Formica Corp., Evendale Facility, Cincinnati, OH: July 31, 2002.

TA-W-52,456; Cutler Hammer, Inc. (formerly Innovative Technology, Inc.), div. of The Eaton Corp., Brooksville, FL: August 1, 2002.

TA-W-52,457; Coherent, Inc., Printed Circuit Boards Department, Auburn, CA: August 4, 2002.

TA-W-52,458; APW, Creedmoor, NC: August 4, 2002.

TA-W-51,502; Ericsson Micro Electronics, Inc., Power Modules Div., Richardson, TX: April 7, 2002.

TA-W-52,237; Alstom Power, Inc., Performance Projects, Chattanooga, TN: July 3, 2002.

TA-W-52,299; Gerber Plumbing Fixtures, LLC, Gerber Plumbing Fixtures Corp., Globe Valve Div., Delphi, IN: July 11, 2002.

TA-W-52,375; Sanmina-SCI Corp., EMS Div., Huntsville, AL: July 22, 2002.

TA-W-52,450; VF Imagewear, Tupelo, MS: August 1, 2002.

TA-W-52,037; Swan Finishing Co., Inc., Fall River, MA: June 13, 2002.

TA-W-52,115; Penn Iron Works, Inc., Sinking Spring, PA: June 16, 2002.

TA-W-52,226 & A; Yorkshire Americas, Inc., Charlotte, NC and Lowell Manufacturing facility, Lowell, NC: July 2, 2002.

TA-W-52,254; Alexander Fabrics LLLP, Burlington, NC: July 1, 2002.

TA-W-52,263; Trelleborg YSH, Inc., a div. of Trelleborg Industries, Inc., a div. of Trelleborg AB, Logansport, IN: July 1, 2002.

TA-W-52,424; Emglo Products, LLC, a wholly owned subsidiary of Flack and Decker (USA), Inc., including leased workers of Rom Ruggeri Enterprise, d/b/a Spherion, Johnstown, PA: July 29, 2002.

The following certification has been issued. The requirement of upstream supplier to a trade certified primary firm has been met.

TA-W-52,335; American Bag Corp., a div. of Milliken and Company, Stearns, KY: November 21, 2002.

I hereby certify that the aforementioned determinations were issued during the months of August. Copies of these determinations are available for inspection in Room C-5311, U.S. Department of Labor, 200 Constitution Avenue, NW., Washington, DC 20210, during normal business hours or will be mailed to persons who write to the above address.

Dated: August 18, 2003.
Timothy Sullivan,
Director, Division of Trade Adjustment Assistance.

[FR Doc. 03-22287 Filed 8-29-03; 8:45 am]

BILLING CODE 4510-30-P